DEPARTMENT OF COMMERCE

International Trade Administration

[C-570-982]

Utility Scale Wind Towers From the People's Republic of China: Rescission of Countervailing Duty Administrative Review; 2022

AGENCY: Enforcement and Compliance, International Trade Administration, Department of Commerce.

SUMMARY: The U.S. Department of Commerce (Commerce) is rescinding the administrative review of the countervailing duty (CVD) order on utility scale wind towers from the People's Republic of China (China) for the period of review (POR) January 1, 2022, through December 31, 2022.

DATES: Applicable August 21, 2023.

FOR FURTHER INFORMATION CONTACT: Charles Doss, AD/CVD Operations, Office III, Enforcement and Compliance, International Trade Administration, U.S. Department of Commerce, 1401 Constitution Avenue NW, Washington, DC 20230; telephone: (202) 482-4474.

SUPPLEMENTARY INFORMATION:

Background

On February 2, 2023, Commerce published in the Federal Register a notice of opportunity to request an administrative review of the CVD order on utility scale wind towers from China.¹ On February 28, 2023, the Wind Tower Trade Coalition (the petitioner) submitted a timely request that Commerce conduct an administrative review.²

¹ See Antidumping or Countervailing Duty Order, Finding, or Suspended Investigation; Opportunity to Request Administrative Review and Join Annual Inquiry Service List, 88 FR 7071 (February 2, 2023).

² See Petitioner's Letter, “Request for Administrative Review,” dated February 28; 2023.

On April 11, 2023, Commerce published in the Federal Register a notice of initiation of administrative review with respect to imports of utility scale wind towers exported and/or produced by the companies in the appendix to this notice, in accordance with section 751(a) of the Tariff Act of 1930, as amended (the Act) and 19 CFR 351.221(c)(1)(i).³ On May 11, 2023, we placed on the record U.S. Customs and Border Protection (CBP) data for entries of utility scale wind towers from China during the POR, showing no reviewable POR entries.⁴

³ See Initiation of Antidumping and Countervailing Duty Administrative Reviews, 88 FR 21609 (April 11, 2023).

⁴ See Memorandum, “Release of Customs and Border Protection Data,” dated May 11, 2023 (Release of CBP Data).

On May 18, 2023, the petitioner filed comments that available information indicated that there may have, in fact, been entries of subject merchandise that were not correctly classified upon entry.⁵ Upon review, on July 20, 2023, Commerce referred the matter to CBP for further consideration.⁶ Additionally, on July 20, 2023, Commerce notified all interested parties of its intent to rescind the instant review in whole because there were no reviewable, suspended entries of subject merchandise by any of the companies subject to this review during the POR and invited interested parties to comment.⁷ No interested party submitted comments to Commerce.

⁵ See Petitioner's Letter, “Comments on CBP Data Query,” dated May 18, 2023.

⁶ See Commerce's Letter, “Utility Scale Wind Towers from the People's Republic of China,” dated July 20, 2023.

⁷ See Commerce's Letter, “Notice of Intent to Rescind Review,” dated July 20, 2023.

Rescission of Review

Pursuant to 19 CFR 351.213(d)(3), it is Commerce's practice to rescind an administrative review of a CVD order when there are no reviewable entries of subject merchandise during the POR for which liquidation is suspended.⁸ Normally, upon completion of an administrative review, the suspended entries are liquidated at the CVD assessment rate calculated for the review period.⁹ Therefore, for an administrative review to be conducted, there must be at least one reviewable, suspended entry that Commerce can instruct CBP to liquidate at the CVD assessment rate calculated for the review period.¹⁰ As noted above, there were no entries of subject merchandise for any of the companies subject to this review during the POR.¹¹ Accordingly, in the absence of suspended entries of subject merchandise during the POR, we are hereby rescinding this administrative review in accordance with 19 CFR 351.213(d)(3) for the companies listed in the appendix to this notice.

⁸ See, e.g., Certain Softwood Lumber Products from Canada: Final Results and Final Rescission, in Part, of the Countervailing Duty Administrative Review, 2020, 87 FR 48455 (August 9, 2022).

⁹ See 19 CFR 351.212(b)(2).

¹⁰ See 19 CFR 351.213(d)(3).

¹¹ See Release of CBP Data.

Assessment

Commerce will instruct CBP to assess countervailing duties on all appropriate entries. Countervailing duties shall be assessed at rates equal to the cash deposit of estimated countervailing duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: August 15, 2023.
James Maeder,
Deputy Assistant Secretary for Antidumping and Countervailing Duty Operations.

Appendix

AUSKY (Shandong) Machinery Manufacturing Co., Ltd.

AVIC International Renewable Energy Co., Ltd.

Baotou Titan Wind Power Equipment Co., Ltd. (aka Baotou Titan Wind Energy Equipment Co. Ltd.)

Baicheng Tianqi Equipment Manufacturing Engineering Co. Ltd.

Chengxi Shipyard Co., Ltd.

China WindPower Group

CleanTech Innovations Inc.

CRRC Wind Power (Shandong) Co., Ltd.

CS Wind China Co., Ltd.

Dajin Heavy Industry Corporation

Guangdong No. 2 Hydropower Engineering Co., Ltd.

Guodian United Power Technology Baoding Co., Ltd.

Harbin Hongguang Boiler Group Co., Ltd.

Hebei Ningqiang Group

Hebei Qiangsheng Wind Equipment Co., Ltd.

Jiangsu Baolong Electromechanical Mfg. Co., Ltd.

Jiangsu Baolong Tower Tube Manufacture Co., Ltd.

Jiangyin Hengrun Ring Forging Co., Ltd.

Jilin Miracle Equipment Manufacturing Engineering Co., Ltd.

Jilin Tianhe Wind Power Equipment Co., Ltd.

Nanjing Jiangbiao Group Co., Ltd.

Nantong Dongtai New Energy Equipment Co., Ltd.

Nantong Hongbo Windpower Equipment Co., Ltd.

Ningxia Electric Power Group

Ningxia Yinyi Wind Power Generation Co., Ltd.

Nordex Dongying Wind Power Equipment Manufacturing Co. Ltd.

Renewable Energy Asia Group Ltd.

Shandong Zhongkai Wind Power Equipment Manufacturers, Ltd.

Shandong Endless Wind Turbine Technical Equipment Co., Ltd.

Shandong Iraeta Heavy Industry

Shanghai Aerotech Trading International

Shanghai GE Guangdian Co., Ltd.

Shanghai Taisheng Wind Power Equipment Co., Ltd.

Shenyang Titan Metal Co., Ltd.

Siemens Gamesa Renewable Energy, S.A.

Sinovel Wind Group Co., Ltd.

Suihua Wuxiao Electric Power Equipment Co., Ltd.

Titan Wind Energy (Suzhou) Co., Ltd. (aka Titan Wind (Suzhou) Co. Ltd.)

Titan (Lianyungang) Metal Product Co., Ltd. (aka Titan Lianyungang Metal Products Co., Ltd.)

Qingdao GeLinTe Environmental Protection Equipment Co., Ltd.

Qingdao Ocean Group

Qingdao Tianneng Electric Power Engineering Machinery Co., Ltd.

Qingdao Wuxiao Group Co., Ltd.

Vestas Wind Technology (China) Co., Ltd.

Wuxiao Steel Tower Co., Ltd.

Xinjiang Huitong (Group) Co., Ltd.

Xinjiang Goldwind Science & Technology Co., Ltd.

Zhejiang Guoxing Steel Structure Co., Ltd

[FR Doc. 2023-17854 Filed 8-18-23; 8:45 am]

BILLING CODE 3510-DS-P